DEPARTMENT OF TRANSPORTATION

National Highway Traffic Safety Administration

[Docket No. NHTSA-2017-0016; Notice 2]

Mack Trucks, Inc., Grant of Petition for Decision of Inconsequential Noncompliance

AGENCY: National Highway Traffic Safety Administration (NHTSA), Department of Transportation (DOT).

ACTION: Grant of petition.

SUMMARY: Mack Trucks, Inc. (MTI), has determined that certain model year (MY) 2017 Mack heavy duty trucks do not fully comply with Federal Motor Vehicle Safety Standard (FMVSS) No. 120, Tire selection and rims and motor home/recreation vehicle trailer load carrying capacity information for motor vehicles with a GVWR of more than 4,536 kilograms (10,000 pounds). MTI filed a noncompliance information report dated February 9, 2017. MTI also petitioned NHTSA on February 28, 2017, and revised its petition on April 29, 2017, for a decision that the subject noncompliance is inconsequential as it relates to motor vehicle safety.

ADDRESSES: For further information on this decision contact Kerrin Bressant, Office of Vehicle Safety Compliance, the National Highway Traffic Safety Administration (NHTSA), telephone (202) 366-1110, facsimile (202) 366-5930.

SUPPLEMENTARY INFORMATION:

I. Overview: Mack Trucks, Inc. (MTI), has determined that certain model year (MY) 2017 Mack heavy duty trucks do not fully comply with paragraph S5.2(b) of Federal Motor Vehicle Safety Standard (FMVSS) No. 120, Tire selection and rims and motor home/recreation vehicle trailer load carrying capacity information for motor vehicles with a GVWR of more than 4,536 kilograms (10,000 pounds). MTI filed a noncompliance report dated February 9, 2017, pursuant to 49 CFR part 573, Defect and Noncompliance Responsibility and Reports. MTI also petitioned NHTSA on February 28, 2017, pursuant to 49 U.S.C. 30118(d) and 30120(h) and 49 CFR part 556, and revised its petition on April 29, 2017, to obtain an exemption from the notification and remedy requirements of 49 U.S.C. Chapter 301 on the basis that this noncompliance is inconsequential as it relates to motor vehicle safety.

Notice of receipt of the petition was published with a 30-day public comment period, on July 20, 2017, in the Federal Register (82 FR 33546). No comments were received. To view the petition and all supporting documents log onto the Federal Docket Management System (FDMS) Web site at: https://www.regulations.gov/. Then follow the online search instructions to locate docket number “NHTSA-2017-0016.”

II. Vehicles Involved: Approximately 226 MY 2017 Mack Pinnacle, Granite, TerraPro and LR heavy duty trucks, manufactured between August 15, 2016, and December 12, 2016, are potentially involved.

III. Noncompliance: MTI explains that the noncompliance is that the wheels on the subject vehicles incorrectly identify the rim size as 24.5″ × 8.25″ instead of 22.5″ × 8.25″, and therefore do not meet the requirements of paragraph S5.2(b) of FMVSS No. 120. Specifically, the marking error overstates the wheel diameter by 2″.

IV. Rule Text: paragraph S5.2 of FMVSS No. 120 states:

S5.2 Rim marking. Each rim or, at the option of the manufacturer in the case of a single-piece wheel, wheel disc shall be marked with the information listed in paragraphs (a) through (e) of this paragraph, in lettering not less than 3 millimeters high, impressed to a depth or, at the option of the manufacturer, embossed to a height of not less than 0.125 millimeters . . .

(b) The rim size designation, and in case of multipiece rims, the rim type designation. For example: 20 × 5.50, or 20 × 5.5.

V. Summary of MTI's Petition: MTI described the subject noncompliance and stated its belief that the noncompliance is inconsequential as it relates to motor vehicle safety.

In support of its petition, MTI referenced a letter to NHTSA, dated December 5, 2016, from Arconic Wheel and Transportation Products (Arconic), which is the rim manufacturer, and provided the following reasoning:

1. A 24.5″ inch tire will not seat on the rim; therefore, if someone tries to mount a 24.5″ tire to the rim, it will not hold air and therefore cannot be inflated.

2. When tires are replaced, the technician will select the tire based on the size and rating of the tire being replaced. When Mack manufactured the vehicle, the tire used was a 22.5″ (i.e., the correct size for the rim). Therefore, the tires installed by Mack have the correct size on the sidewall of the tire.

3. Mack is required to list the tires size and inflation pressures on the certification label as required by 49 CFR 567. The information printed on the label is the correct size, a 22.5″ inch tire and reflects the tires that were installed when manufactured. The certification label is located inside the driver's door and can be easily accessed by the tire installer.

MTI concluded by expressing the belief that the subject noncompliance is inconsequential as it relates to motor vehicle safety, and that its petition to be exempted from providing notification of the noncompliance, as required by 49 U.S.C. 30118, and a remedy for the noncompliance, as required by 49 U.S.C. 30120, should be granted.

To view MTI's petition analyses in its entirety you can visit https://www.regulations.gov by following the online instructions for accessing the dockets and by using the docket ID number for this petition shown in the heading of this notice.

NHTSA Decision

NHTSA Analysis: MTI explains that the noncompliance is that the wheels on the subject vehicles incorrectly identify the rim size as 24.5″ x 8.25″ instead of 22.5″ x 8.25″, and therefore do not meet the requirements of paragraph S5.2(b) of FMVSS No. 120. Specifically, the marking error overstates the wheel diameter by 2″.

NHTSA has reviewed MTI's analyses that the subject noncompliance is inconsequential to motor vehicle safety and provides the following analysis:

When it comes to mating a tire and rim combination, it becomes very apparent very quickly that either an oversized tire on a rim or an undersized tire on the same sized rim will not properly seat to that rim. In this particular case (the former) as MTI has mentioned in its petition, if someone tries to mount a 24.5″ inch tire on an undersized rim (22.5″), it will not hold air and therefore cannot be inflated. The inability to mount the incorrect tire on the rim precludes one's ability to actually drive with an incorrect tire-rim combination on public roadways. Furthermore, FMVSS No. 120 paragraph S5.3 requires vehicles be labeled with proper tire/rim size combinations. This additional information is available to provide the vehicle operator or technician with the correct tire/rim size information.

NHTSA's Decision: In consideration of the foregoing, NHTSA finds that MTI has met its burden of persuasion that the FMVSS No. 120 noncompliance is inconsequential as it relates to motor vehicle safety. Accordingly, MTI's petition is hereby granted and MTI is consequently exempted from the obligation to provide notification of, and remedy for, the subject noncompliance in the affected vehicles under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that MTI no longer controlled at the time it determined that the noncompliance existed. However, the granting of this petition does not relieve vehicle distributors and dealers of the prohibitions on the sale, offer for sale, or introduction or delivery for introduction into interstate commerce of the noncompliant vehicles under their control after MTI notified them that the subject noncompliance existed.

Authority: 49 U.S.C. 30118, 30120: delegations of authority at 49 CFR 1.95 and 501.8.

Jeffrey M. Giuseppe,
Director, Office of Vehicle Safety Compliance.

[FR Doc. 2017-22111 Filed 10-11-17; 8:45 am]

BILLING CODE 4910-59-P